DEPARTMENT OF EDUCATION

Safe and Drug-Free Schools and Communities Advisory Committee

AGENCY: Office of Safe and Drug-Free Schools.

ACTION: Notice of open teleconference meeting.

SUMMARY: This notice sets forth the schedule and proposed agenda of an upcoming open meeting of The Safe and Drug-Free Schools and Communities Advisory Committee. The notice also describes the functions of the Committee. Notice of this meeting is required by section 10(a)(2) of the Federal Advisory Committee Act and is intended to notify the public of their opportunity to attend.

DATES: Thursday, April 19, 2007.

Time: 2 p.m., EST.

ADDRESSES: The Committee will meet by telephone conference call.

FOR FURTHER INFORMATION CONTACT: Catherine Davis, Executive Director, The Safe and Drug-Free Schools and Communities Advisory Committee, Room 1E110B, 400 Maryland Avenue, SW., Washington, DC, telephone: (202) 205-4169, e-mail: OSDFSC@ed.gov.

SUPPLEMENTARY INFORMATION: The Committee was established to provide advice to the Secretary on Federal, State, and local programs designed to create safe and drug-free schools, and on issues related to crisis planning. The purpose of this meeting is to continue discussion on the fundings and recommendations on three topics given to the Committee by the Secretary of Education: the Safe and Drug-Free Schools and Communities State Grants Program, the Unsafe Schools Choice Option, and data requirements under the Safe and Drug-Free Schools and Communities Act. Further, the Committee will also discuss the format of the final report to the Secretary of Education due June 30, 2007.

There will not be an opportunity for public comment during the April 19th meeting. However, the public may listen to the conference call by calling 800-473-8796, Teleconference Chairperson: Deborah Price. Individuals who need accommodations for a disability in order to listen to the meeting may access a TYY line by calling 800-473-8796, Teleconference Chairperson: Deborah Price.

Request for Written Comments: We invite the public to submit written comments relevant to the focus of the Advisory Committee. We would like to receive written comments from members of the public no later than April 30, 2007.

ADDRESSES: Submit all comments to the Advisory Committee using one of the following methods: 1. Internet. We encourage the public to submit comments through the Internet to the following address: OSDFSC@ed.gov 2. Mail. The public may also submit comments via mail to Catherine Davis, Office of Safe and Drug-Free Schools, U.S. Department of Education, 400 Maryland Avenue, SW., Room 1E110B, Washington, DC 20202. Due to delays in mail delivery caused by heightened security, please allow adequate time for the mail to be received.

Records are kept of all Committee proceedings and are available for public inspection at the staff office for the Committee located at the U.S. Department of Education, 400 Maryland Avenue, SW., Room 1E110B, Washington, DC 20202 between the hours of 9 a.m. to 5 p.m.

Raymond Simon,
Deputy Secretary, U.S. Department of Education.

[FR Doc. 07-1584 Filed 3-30-07; 8:45 am]

BILLING CODE 4000-01-M